DEPARTMENT OF COMMERCE

International Trade Administration

[A-570-851]

Certain Preserved Mushrooms From the People's Republic of China: Final Results of Antidumping Duty Administrative Review; 2013-2014; and Partial Rescission of Review

AGENCY: Enforcement and Compliance, International Trade Administration, Department of Commerce.

DATES: Effective Date: June 8, 2015.

SUMMARY: The Department of Commerce (the Department) published the Preliminary Results of the 2013/2014 administrative review on December 3, 2014.¹ We gave interested parties an opportunity to comment on the Preliminary Results. Based upon our analysis of the comments received, we made changes to the margin calculations for these final results. The final dumping margins are listed below in the “Final Results of Review” section of this notice. The period of review (POR) is February 1, 2013 through January 31, 2014. The review covers two mandatory respondents, Zhangzhou Gangchang Canned Foods Co., Ltd. (Gangchang) and Linyi City Kangfa Foodstuff Drinkable Co., Ltd. (Kangfa).

¹ See Certain Preserved Mushrooms From the People's Republic of China: Preliminary Results of Antidumping Duty Administrative Review; 2013/2014, 79 FR 71746 (December 3, 2014) (Preliminary Results).

FOR FURTHER INFORMATION CONTACT: Michael J. Heaney or Robert James, AD/CVD Operations, Office VI, Enforcement and Compliance, International Trade Administration, U.S. Department of Commerce, 14th Street and Constitution Avenue NW., Washington, DC 20230; telephone: (202) 482-4475 or (202) 482-0649, respectively.

SUPPLEMENTARY INFORMATION:

Background

The Department published the Preliminary Results on December 3, 2014.² On March 13, 2015, the Department extended the deadline for issuing the final results by 60 days, until June 1, 2015.³ On January 9, 2015, Gangchang and Kangfa submitted a joint case brief.⁴ On January 21, 2015, petitioner Monterey Mushrooms submitted a rebuttal brief.⁵

² See Preliminary Results.

³ See Memorandum dated March 13, 2015 from Michael J. Heaney to Christian Marsh Re: Certain Preserved Mushrooms from the People's Republic of China: Extension of Deadline for Final Results of Antidumping Duty Administrative Review: 2013-2014.

⁴ See January 9, 2015 letter from Gangchang and Kangfa to Secretary of Commerce Re: Certain Preserved Mushrooms from the People's Republic of China; Submission of Respondents' Case Brief (Respondents Case Brief).

⁵ See January 21, 2015 letter from Monterey Mushrooms to Secretary of Commerce from Monterey Mushrooms (Petitioner's Rebuttal Brief).

Scope of the Order

The products covered by this antidumping order are certain preserved mushrooms, whether imported whole, sliced, diced, or as stems and pieces. The merchandise subject to this order is classifiable under subheadings: 2003.10.0127, 2003.10.0131, 2003.10.0137, 2003.10.0143, 2003.10.0147, 2003.10.0153, and 0711.51.0000 of the Harmonized Tariff Schedule of the United States (HTSUS). Although the HTSUS subheadings are provided for convenience and customs purposes, the written description of the scope of this order is dispositive.⁶

⁶ For a complete description of the scope of the order, see “Certain Preserved Mushrooms from the People's Republic of China: Issues and Decision Memorandum for the Final Results in the 2013/2014 Administrative Review,” dated June 1, 2015 (Issues and Decision Memorandum) at 2.

Analysis of Comments Received

All issues raised in the case and rebuttal briefs by parties in this review are addressed in the Issues and Decision Memorandum. A list of the issues which parties raised is attached to this notice as an appendix. The Issues and Decision Memorandum is a public document and is on file in the Central Records Unit (CRU), Room 7046 of the main Department of Commerce building, as well as electronically via Enforcement and Compliance's Antidumping and Countervailing Duty Centralized Electronic Service System (ACCESS). ACCESS is available to registered users at https://access.trade.gov and in the CRU. In addition, a complete version of the Issues and Decision Memorandum can be accessed directly on the internet at http://enforcement.trade.gov/frn/index.html. The signed Issues and Decision Memorandum and electronic versions of the Issues and Decision Memorandum are identical in content.

Changes Since the Preliminary Results

Based on our review of the comments received from interested parties regarding our Preliminary Results, and for the reasons explained in the Issues and Decision Memorandum, we have revised the margin calculation for both Gangchang and Kangfa. The respective analysis memoranda for Gangchang and Kangfa contain further explanation of the margin calculations utilized in the final results.⁷

⁷ See Memorandum to the File from Michael J. Heaney “Analysis of Data Submitted by Zhangzhou Gangchang Canned Foods Co., Ltd. (Gangchang) in the Final Results of Administrative Review of the Antidumping Duty Order on Certain Preserved Mushrooms from the People's Republic of China (PRC)” dated June 2, 2015 at 2 (Gangchang Final Analysis Memorandum); see also Memorandum to the File from Michael J. Heaney “Analysis of Data Submitted by Linyi City Kangfa Foodstuff Drinkable Co., Ltd. in the Final Results of Administrative Review of the Antidumping Duty Order on Certain Preserved Mushrooms from the People's Republic of China (PRC)” dated June 2, 2015 (Kangfa Final Analysis Memorandum) at 2.

Final Determination of No Shipments

In the Preliminary Results, we determined that Xiamen International Trade & Industrial Co., Ltd. (XITIC) and Zhangzhou Hongda Import & Export Trading Co., Ltd. (Zhangzhou Hongda) did not have any reviewable entries during the POR because both XITIC and Zhangzhou Hongda submitted timely certifications of no shipments, entries, or sales of subject merchandise during the POR and we did not receive any information from U.S. Customs and Border Protection (CBP) indicating there were reviewable entries for XITIC or Zhangzhou Hongda during the POR. Consistent with the Department's assessment practice in non-market economy cases, we stated in the Preliminary Results that the Department would not rescind the review in these circumstances but, rather, would complete the review with respect to XITIC and Zhangzhou Hongda and issue appropriate instructions to CBP based on the final results of the review.⁸ We did not receive any comments following our Preliminary Results with respect to this issue. As such, in these final results, we continue to determine that XITIC and Zhangzhou Hongda had no reviewable entries of subject merchandise during the POR.

⁸ See Preliminary Results, 79 FR at 71747.

Final Results of Review and Partial Rescission of Review

In our Preliminary Results, we found that 48 companies subject to this review did not establish their eligibility for a separate rate and that they were, thus, part of the PRC-wide entity. In these final results, we continue to determine that 47 of these companies are part of the PRC-wide entity.⁹ Because no party requested a review of the PRC-wide entity and the Department no longer considers the PRC-wide entity as an exporter conditionally subject to administrative reviews, we did not conduct a review of the PRC-wide entity and the entity's rate is not subject to change. Finally, we note that one of the companies determined to be a part of the PRC-wide entity in our Preliminary Results, Dezhou Kaihang Agricultural Science Technology Co., Ltd. (Dezhou Kaihang), is a respondent in a new shipper review covering the period February 1, 2013 through February 28, 2014, the final results of which are being issued concurrent with these final results. Because the new shipper review encompasses the entire POR of the administrative review, Dezhou Kaihang's sole sale during the POR is covered by the new shipper review and, therefore there is no reviewable entry subject to this administrative review.¹⁰ Accordingly, we are rescinding this administrative review with respect to Dezhou Kaihang.

⁹ These 47 exporters are: (1)Ayecue (Liaocheng) Foodstuff Co., Ltd., (2) Blue Field (Sichuan) Food Industrial Co., Ltd., (3) China National Cereals, Oils & Foodstuffs Import & Export Corp., (4) China Processed Food Import & Export Co., (5) Dalian J&N Foods Co., Ltd., (6) Dujiangyan Xingda Foodstuff Co., Ltd., (7) Fujian Dongshan Changlong Trade Co., Ltd., (8) Fujian Golden Banyan Foodstuffs Industrial Co., Ltd., (9) Fujian Haishan Foods Co., Ltd., (10) Fujian Pinghe Baofeng Canned Foods, (11) Fujian Tongfa Foods Group Co., Ltd., (12) Fuzhou Sunshine Imp. & Exp. Co., Ltd., (13) Fujian Yuxing Fruits and Vegetables Foodstuffs Development Co., Ltd., (14) Fujian Zishan Group Co., Ltd., (15) Golden Banyan Foodstuffs Co., Ltd., (16) Guangxi Eastwing Trading Co., Ltd., (17) Guangxi Hengyong Industrial & Commercial Dev. Ltd., (18) Guangxi Jisheng Foods, Inc., (19) Inter-Foods (Dongshan) Co., Ltd., (20) Longhai Guangfa Food Co., Ltd., (21) Longhai Jiasheng Food Co., Ltd., (22) Primera Harvest (Xiangfan) Co., Ltd., (23) Qingdao Canned Foods Co., Ltd., (24) Shandong Fengyu Edible Fungus Corporation Ltd., (25) Shandong Jiufa Edible Fungus Corporation, Ltd., (26) Shandong Yinfeng Rare Fungus Corporation, Ltd., (27) Synehon (Xiamen) Trading Co., Ltd., (28) Sun Wave Trading Co., Ltd., (29) Xiamen Carre Food Co., Ltd., (30) Xiamen Choice Harvest Imp., (31) Xiamen Greenland Import & Export Co., Ltd., (32) Xiamen Gulong Import & Export Co., Ltd., (33) Xiamen Gulong Import Export Co. Ltd., (34) Xiamen Jiahua Import & Export Trading Co., Ltd., (35) Xiamen Longhuai Import & Export Co., Ltd., (36) Xiamen Sungiven Import & Export Co., Ltd., (37) Xiamen Yubang Import Export Trading Co. Ltd., (38) Zhangzhou Golden Banyan Foodstuffs Industrial Co., Ltd., (39) Zhangzhou Lixing Imp. & Exp. Trade Co., Ltd., (40) Zhangzhou Long Mountain Foods Co., Ltd., (41) Zhangzhou Tan Co., Ltd., (42) Zhangzhou Tianbaolong Food Co., Ltd., (43) Zhangzhou Tongfa Foods Industry Co., Ltd., (44) Zhangzhou Yuxing Imp. & Exp. Trading Co., Ltd., (45) Zhangzhou Xiangcheng Rainbow & Greenland Food Co., Ltd., (46) Zhejiang Iceman Food Co., Ltd., and (47) Zhejiang Iceman Group Co., Ltd.

¹⁰ See Certain Preserved Mushrooms From the People's Republic of China: Preliminary Results of Antidumping Duty New Shipper Review; 2013/2014, 80 FR 3216 (January 22, 2015) and Accompanying Decision Memorandum at 1 (unchanged in final). We further note that Dezhou Kaihang's entry entered subsequent to the commencement of the AR. Id.

For the companies subject to this review that established their eligibility for a separate rate, the weighted average dumping margins for the final results of this review for the POR are as follows:

Exporter | Weighted average margin (percent)
Linyi City Kangfa Foodstuff Drinkable Co., Ltd. | 75.67
Zhangzhou Gangchang Canned Foods Co., Ltd. | 99.71

Disclosure

The Department will disclose calculations performed for these final results to the parties within five days of the date of publication of this notice, in accordance with 19 CFR 351.224(b).

Assessment Rates

Pursuant to section 751(a)(2)(C) of the Tariff Act of 1930, as amended (the Act) and 19 CFR 351.212(b), the Department will determine, and CBP shall assess, antidumping duties on all appropriate entries of subject merchandise covered by this review. The Department intends to issue assessment instructions to CBP 15 days after the date of publication of these final results of review.

For assessment purposes, for both Gangchang and Kangfa, we will instruct CBP to liquidate based upon a per-unit, importer-specific, assessment rate. This per-unit assessment rate is based on the ratio of the total amount of dumping calculated for the importer's examined sales to the total entered quantity of those same sales.¹¹ For the 47 companies identified above as being part of the PRC-wide entity, any entries will be assessed at the PRC-wide rate.

¹¹ See 19 CFR 351.212(b)(1).

On October 24, 2011, the Department announced a refinement to its assessment practice in non-market economy cases.¹² Pursuant to this refinement in practice, for entries that were not reported in the U.S. sales databases submitted by companies individually examined during this review, the Department will instruct CBP to liquidate at the PRC-wide rate. In addition, if the Department determines that an exporter had no shipments of the subject merchandise, any suspended entries that entered under that exporter's case number (i.e., at that exporter's rate) will be liquidated at the PRC-wide rate.

¹² See Non-Market Economy Antidumping Proceedings: Assessment of Antidumping Duties, 76 FR 65694 (October 24, 2011).

As noted above, the Department determines that XITIC and Zhangzhou Hongda did not have any reviewable transactions during the POR. As a result, any suspended entries that entered under these exporters' case numbers will be liquidated at the PRC-wide rate.

Cash Deposit Requirements

The following cash deposit requirements will be effective for all shipments of subject merchandise entered, or withdrawn from warehouse, for consumption on or after the publication date of the final results of this administrative review, as provided by section 751(a)(2)(C) of the Act: (1) For the exporters listed above, the cash deposit rate will be the rate established in the final results of this review; (2) for previously investigated or reviewed PRC and non-PRC exporters which are not under review in this segment of the proceeding but received a separate rate in a previous segment, the cash deposit rate will continue to be the exporter-specific rate published for the most recently-completed period; (3) for all PRC exporters of subject merchandise which have not been found to be entitled to a separate rate, the cash deposit rate will be that for the PRC-wide entity (i.e., 308.33 percent); ¹³ and (4) for all non-PRC exporters of subject merchandise which have not received their own rate, the cash deposit rate will be the rate applicable to the PRC exporter(s) that supplied the non-PRC exporter. These cash deposit requirements, when imposed, shall remain in effect until further notice.

¹³ In the Preliminary Results, we inadvertently identified the rate applicable to the PRC-wide entity as 303.80 percent. We have corrected that error in these final results to reflect the correct rate of 308.33 percent. See Certain Preserved Mushrooms From the People's Republic of China: Final Results of Antidumping Duty Administrative Review; 2012-2013, 79 FR 12150, 12152 (March 4, 2014).

Notification to Importers

This notice serves as a final reminder to importers of their responsibility under 19 CFR 351.402(f)(2) to file a certificate regarding the reimbursement of antidumping duties prior to liquidation of the relevant entries during this POR. Failure to comply with this requirement could result in the Department's presumption that reimbursement of antidumping duties occurred and the subsequent assessment of double antidumping duties.

Notification Regarding Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a sanctionable violation.

We are issuing and publishing these results and this notice in accordance with sections 751(a)(1) and 777(i) of the Act.

Dated: June 1, 2015.
Ronald K. Lorentzen,
Acting Assistant Secretary for Enforcement and Compliance.

List of Topics Discussed in the Accompanying Issues and Decision Memorandum

Summary

Background

Scope of the Order

Discussion of Issues

Comment 1 Land Rent

Comment 2 Well Water and Casing Soil

Comment 3 Labor Cost

Comment 4 Glass Jars and Metal Caps

Comment 5 Compost Offset

Comment 6 Surrogate Financial Ratios

Recommendation

[FR Doc. 2015-13975 Filed 6-5-15; 8:45 am]

BILLING CODE 3510-DS-P